DEPARTMENT OF TRANSPORTATION

Federal Aviation Administration

14 CFR Part 39

[Docket No. 2000-SW-30-AD; Amendment 39-12043; AD 2000-25-08]

RIN 2120-AA64

Airworthiness Directives; Eurocopter France Model AS-350B, BA, B1, B2, and D; and AS-355E, F, F1, F2, and N Helicopters

AGENCY: Federal Aviation Administration, DOT.

ACTION: Final rule.

SUMMARY: This amendment supersedes an existing airworthiness directive (AD) that applies to Eurocopter France (ECF) Model AS-350B, BA, B1, B2, and D; and AS-355E, F, F1, F2, and N helicopters. That AD currently requires inspecting the main gearbox suspension bi-directional cross beam (cross beam) for cracks, replacing the cross beam if a crack is found, and adding time intervals for repetitive dye-penetrant inspections on cross beams with 5,000 or more hours time-in-service (TIS). This amendment requires the same inspections as the existing AD but would delete repetitive dye-penetrant inspections on cross beams with 5,000 or more hours TIS. This amendment is prompted by the discovery that repetitive dye-penetrant inspections were erroneously required in the existing AD. The actions specified by this AD are intended to prevent failure of the cross beam that could lead to rotation of the main gearbox, severe vibrations, and a subsequent forced landing.

DATES: Effective April 24, 2001.

The incorporation by reference of certain publications listed in the regulations is approved by the Director of the Federal Register as of April 24, 2001.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Jim Grigg, Aviation Safety Engineer, FAA, Rotorcraft Directorate, Regulations Group, Fort Worth, Texas 76193-0111, telephone (817) 222-5490, fax (817) 222-5961.

SUPPLEMENTARY INFORMATION: A proposal to amend part 39 of the Federal Aviation Regulations (14 CFR part 39) by superseding AD 2000-10-10, Amendment 39-11734 (65 FR 32016, May 22, 2000), which applies to ECF Model AS-350B, BA, B1, B2, and D; and AS-355E, F, F1, F2, and N helicopters, was published in the Federal Register on September 11, 2000 (65 FR 54823). That action proposed to require visually inspecting and dye-penetrant inspecting the cross beam for cracks and replacing the cross beam if a crack is found.

Interested persons have been afforded an opportunity to participate in the making of this amendment. No comments were received on the proposal or the FAA's determination of the cost to the public. The FAA has determined that air safety and the public interest require the adoption of the rule as proposed.

The FAA estimates that 454 helicopters of U.S. registry will be affected by this AD, that it will take approximately 0.5 work hour to accomplish each visual inspection, with an estimated average of 150 visual inspections, 3 work hours to accomplish a dye-penetrant inspection, and 6 work hours to replace the cross beam, if necessary, per helicopter. Required parts will cost approximately $6,000 per cross beam. Based on these figures, the total cost impact of the AD on U.S. operators is estimated to be $5,012,160 to perform 150 visual inspections, one dye-penetrant inspection, and to replace one cross beam on all 454 helicopters.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11734 (65 FR 32016, May 22, 2000), and by adding a new airworthiness directive (AD), Amendment 39-12043, to read as follows:

2000-25-08 Eurocopter France: Amendment 39-12043. Docket No. 2000-SW-30-AD. Supersedes AD 2000-10-10, Amendment 39-11734, Docket No. 99-SW-39-AD.

Applicability: Model AS-350B, BA, B1, B2, and D; and AS-355E, F, F1, F2, and N helicopters, with main gearbox suspension bi-directional cross beam (cross beam), part number (P/N) 350A38-1018-all dash numbers, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated, unless accomplished previously.

To prevent failure of the cross beam that could lead to rotation of the main gearbox, severe vibrations, and a subsequent forced landing, accomplish the following:

(a) For cross beams having 2,000 or more hours time-in-service (TIS) or 10,000 or more operating cycles, whichever occurs first:

Note 2: The Master Service Recommendations and the flight log contain accepted procedures that are used to determine the cumulative operating cycles on the rotorcraft.

(1) Within 30 hours TIS, and thereafter at intervals not to exceed 30 hours TIS or 150 operating cycles, whichever occurs first, visually inspect the cross beam for a crack in accordance with paragraph 2.B.1) of Eurocopter France Service Bulletin No. 05.00.28, applicable to Model AS-350 helicopters, or Eurocopter France Service Bulletin No. 05.00.29, applicable to Model AS-355 helicopters, both dated May 26, 1997.

(2) If a crack is found, remove the cross beam and replace it with an airworthy cross beam.

(b) For cross beams having 5,000 or more hours TIS:

(1) Within 550 hours TIS or 2,750 operating cycles, whichever occurs first, perform a dye-penetrant inspection in accordance with paragraph 2.B.2) of Eurocopter France Service Bulletin No. 05.00.28, applicable to Model AS-350 helicopters, or Eurocopter Service Bulletin No. 05.00.29, applicable to Model AS-355 helicopters, both dated May 26, 1997.

(2) If a crack is found, remove the cross beam and replace it with an airworthy cross beam.

(c) Before installing any replacement cross beams, regardless of TIS or operating cycles, inspect the replacement cross beam in accordance with paragraph (b)(1) of this AD.

(d) Modifying the helicopter in accordance with paragraph 2.B of the Accomplishment Instructions in Eurocopter Service Bulletin No. 63.00.07, applicable to Model AS-350B, BA, B1, B2, and D helicopters, or Eurocopter Service Bulletin No. 63.00.13, applicable to Model AS-355E, F, F1, F2, and N helicopters, both dated April 7, 1997, constitutes terminating action for the requirements of this AD.

(e) An alternative method of compliance or adjustment of the compliance time that provides an acceptable level of safety may be used if approved by the Manager, Regulations Group, FAA, Rotorcraft Directorate. Operators shall submit their requests through an FAA Principal Maintenance Inspector, who may concur or comment and then send it to the Manager, Regulations Group.

Note 3: Information concerning the existence of approved alternative methods of compliance with this AD, if any, may be obtained from the Regulations Group.

(f) Special flight permits may be issued in accordance with 14 CFR 21.197 and 21.199 to operate the helicopter to a location where the requirements of this AD can be accomplished.

(g) The visual and dye-penetrant inspections shall be done in accordance with paragraphs 2.B.1) and 2.B.2) of Eurocopter France Service Bulletin No. 05.00.28 or No. 05.00.29, as applicable. Both service bulletins are dated May 26, 1997. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(h) This amendment becomes effective on April 24, 2001.

Note 4: The subject of this AD is addressed in Direction Generale De L'Aviation Civile (France) AD 96-156-071(B)R1 and AD 96-155-053(B)R1, both dated June 4, 1997.

Issued in Fort Worth, Texas, on December 7, 2000.
Henry A. Armstrong,
Manager, Rotorcraft Directorate,, Aircraft Certification Service.

[FR Doc. 01-6284 Filed 3-19-01; 8:45 am]

BILLING CODE 4910-13-P